DEPARTMENT OF TRANSPORTATION

Federal Motor Carrier Safety Administration

Solicitation of Applications for Fiscal Year (FY) 2007 Motor Carrier Safety Assistance Program (MCSAP) High Priority and New Entrant Grant Funding

AGENCY: Federal Motor Carrier Safety Administration (FMCSA), DOT.

ACTION: Notice.

SUMMARY: FMCSA announces that it has published an opportunity to apply for FY2007 MCSAP High Priority and New Entrant grant funding on the grants.gov Web site (http://www.grants.gov). Section 4101 of SAFETEA-LU (Pub. L. 109-59, August 10, 2005, 119 Stat. 1144) amends 49 U.S.C. 31104(a) and authorizes the Motor Carrier Safety Grants funding for FY2006 through FY2009. The authorized level of funding for MCSAP is $197,000,000 for FY2007, which includes up to $15,000,000 for High Priority grants and up to $29,000,000 for New Entrant Safety Audits. High priority funds are only available for activities conducted by State agencies, local governments, and organizations representing government agencies or officials that use and train qualified officers and employees in coordination with State motor vehicle safety agencies. States and local governments are eligible to apply for New Entrant funds. All applicants must submit an electronic application package through grants.gov. To apply using the grants.gov process, the applicant must be registered with grants.gov. To register, go to http://www.grants.gov/applicants/get_registered.jsp. The applicant must download the grant application package, complete the grant application package, and submit the completed grant application package. This can be done on the Internet at http://www.grants.gov/applicants/apply_for_grants.jsp. The CFDA number for MCSAP is 20.218.

DATES: FMCSA will initially consider funding of applications submitted by November 30, 2006 by qualified applicants. If additional funding remains available, applications submitted after November 30, 2006 will be considered on a case-by-case basis. Funds will not be available for allocation until such time as FY2007 appropriations legislation is passed and signed into law. Funding is subject to reductions resulting from obligation limitations or rescissions as specified in SAFETEA-LU or other legislation.

FOR FURTHER INFORMATION CONTACT: Mr. Michael Lamm, Federal Motor Carrier Safety Administration, Office of Safety Programs, State Programs Division (MC-ESS), 202-366-6830, 400 Seventh Street, SW., Room 8314, Washington, DC 20590. Office hours are from 7:30 a.m. to 4 p.m., EST., Monday through Friday, except Federal holidays.

Issued on: October 19, 2006.
John H. Hill,
Administrator.

[FR Doc. E6-17967 Filed 10-25-06; 8:45 am]

BILLING CODE 4910-EX-P